COMMITTEE FOR THE IMPLEMENTATION OF TEXTILE AGREEMENTS

Amendment of Coverage of an Import Limit and Visa and Certification Requirements for a Certain Part-Category Produced or Manufactured in the People's Republic of China

January 10, 2001.

AGENCY: Committee for the Implementation of Textile Agreements (CITA).

ACTION: Issuing a directive to the Commissioner of Customs amending coverage for an import limit and visa and certification requirements.

EFFECTIVE DATE: January 1, 2001.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

To facilitate implementation of the Bilateral Textile Memorandum of Understanding dated February 1, 1997 between the Governments of the United States and the People's Republic of China (see 64 FR 69228, published on December 10, 1999) and the export visa arrangement dated February 1, 1997 (see 62 FR 15465, published on April 1, 1997) based upon the Harmonized Tariff Schedule (HTS), a certain HTS classification number is being changed for products in part-Category 666-C which are entered into the United States for consumption or withdrawn from warehouse for consumption on and after January 1, 2001, regardless of the date of export.

In the letter published below, the Chairman of CITA directs the Commissioner of Customs to amend all import controls and all visa and certification requirements for products exported from China in part-Category 666-C.

Richard B. Steinkamp,
Chairman, Committee for the Implementation of Textile Agreements.

Committee for the Implementation of Textile Agreements

January 10, 2001.

Commissioner of Customs,

Department of the Treasury, Washington, DC 20229.

Dear Commissioner: This directive amends, but does not cancel, the directive issued to you on December 6, 1999 by the Chairman, Committee for the Implementation of Textile Agreements, which includes man-made fiber textile products in part-Category 666-C, produced or manufactured in China and imported into the United States on and after January 1, 2001, regardless of the date of export.

Also, this directive amends, but does not cancel, the directive issued to you on March 27, 1997 establishing visa and certification requirements for part-Category 666-C.

Effective on January 1, 2001, you are directed to make the changes shown below in the aforementioned directives for products entered in the United States for consumption or withdrawn from warehouse for consumption on and after January 1, 2001 for part-Category 666-C, regardless of the date of export:

Category | HTS change
666 C | Replace 6303.92.2000 with 6303.92.2010 and 6303.92.2020.

The Committee for the Implementation of Textile Agreements has determined that this action falls within the foreign affairs exception to the rulemaking provisions of 5 U.S.C.553(a)(1).

Sincerely,

Richard B. Steinkamp,

Chairman, Committee for the Implementation of Textile Agreements.

[FR Doc. 01-1315 Filed 1-16-01; 8:45 am]

BILLING CODE 3510-DR-F